DEPARTMENT OF AGRICULTURE

Forest Service

DEPARTMENT OF THE INTERIOR

Fish and Wildlife Service

[FWS-R7-SM-2023-N101; FF07J00000-245-FXRS12610700000]

Alaska Subsistence Regional Advisory Council Meetings for 2024

AGENCY: Forest Service, Agriculture; Fish and Wildlife Service, Interior.

ACTION: Notice of meetings.

SUMMARY: The Federal Subsistence Board (Board) announces the public meetings of the 10 Alaska Subsistence Regional Advisory Councils (Councils) for the winter and fall cycles of 2024. The Councils each meet approximately twice a year to provide advice and recommendations to the Board about subsistence hunting and fishing issues on Federal public lands in Alaska.

DATES:

Winter 2024 Meetings: The Councils will meet during a joint session on March 5, 2024, will hold joint training session on March 6, 2024, and will hold individual concurrent sessions on March 7-8, 2024, in Anchorage, Alaska. The meetings will begin at 8 a.m. Alaska time and end at approximately 5 p.m. each day. For more information about accessing the meetings, visit the Federal Subsistence Management Program website, at https://www.doi.gov/subsistence/regions.

Fall 2024 Meetings: The Councils will meet between August 19 and October 30, 2024, as shown in table 1. For more information about accessing the meetings, including start times, visit https://www.doi.gov/subsistence/regions.

Table 1—Fall 2024 Meetings of the Alaska Subsistence Regional Advisory Councils
Regional Advisory Council | Dates | Location
Southeast Alaska—Region 1 | October 22-24 | Ketchikan.
Southcentral Alaska—Region 2 | October 10-11 | Anchorage.
Kodiak/Aleutians—Region 3 | September 4-6 | Unalaska.
Bristol Bay—Region 4 | October 29-30 | Dillingham.
Yukon-Kuskokwim Delta—Region 5 | August 27-29 | Bethel.
Western Interior—Region 6 | October 2-3 | Galena.
Seward Peninsula—Region 7 | October 24-25 | Nome.
Northwest Arctic—Region 8 | October 28-29 | Kotzebue.
Eastern Interior—Region 9 | October 8-10 | Tanana.
North Slope—Region 10 | August 19-20 | Utqiagvik.

All meetings are open to the public.

ADDRESSES: Specific information about meeting locations and the final agendas can be found at https://www.doi.gov/subsistence/regions.

FOR FURTHER INFORMATION CONTACT: Chair, Federal Subsistence Board, c/o U.S. Fish and Wildlife Service; Attention: Amee Howard, Acting Assistant Regional Director, Office of Subsistence Management; (907) 786-3888 (phone) or subsistence@fws.gov (email). For questions specific to National Forest System lands, contact Gregory Risdahl, Subsistence Program Leader, (907) 302-7354 (phone) or gregory.risdahl@usda.gov (email). Individuals in the United States who are deaf, blind, hard of hearing, or have a speech disability may dial 711 (TTY, TDD, or TeleBraille) to access telecommunications relay services. Individuals outside the United States should use the relay services offered within their country to make international calls to the point-of-contact in the United States.

Reasonable Accommodations: The Federal Subsistence Board is committed to providing access to these meetings for all participants. Please make requests in advance for sign language interpreter services, assistive listening devices, or other reasonable accommodations. Please make requests to Katerina Wessels, (907) 786-3885 (phone) or katerina_wessels@fws.gov (email), at least 7 business days prior to the meeting you would like to attend, to give the U.S. Fish and Wildlife Service sufficient time to process your request. All reasonable accommodation requests are managed on a case-by-case basis.

SUPPLEMENTARY INFORMATION: The Federal Subsistence Board (Board) announces the 2024 public meeting schedule for the 10 Alaska Subsistence Regional Advisory Councils (Councils), in accordance with the Federal Advisory Committee Act (5 U.S.C. ch. 10). Established in 1993, the Councils are statutory Federal advisory committees that provide a public forum for their regions and recommendations to the Board about subsistence hunting, trapping, and fishing issues on Federal public lands in Alaska, as authorized by section 805 of the Alaska National Interest Lands Conservation Act (ANILCA; 16 U.S.C. 3111-3126).

The Councils are a crucial link between federally qualified subsistence users and the Board. The Board is a multi-agency body that includes representatives of the U.S. Fish and Wildlife Service, National Park Service, Bureau of Land Management, Bureau of Indian Affairs, and U.S. Forest Service, as well as a chair and two public members who are appointed by the Secretary of the Interior with the concurrence of the Secretary of Agriculture.

Each Council meets approximately two times per calendar year, once in the winter and once in the fall, to attend to business and develop proposals and recommendations to the Board.

Meeting Agendas

Winter Meetings

• Joint session of 10 Councils:

○ Regional reports on subsistence uses and issues for each region.

○ Office of Subsistence Management, Federal Subsistence Board, and other agency reports.

○ Current trends in impacts to subsistence.

○ Youth engagement in subsistence management.

○ Awards and recognition of the Council members.

• Individual Council breakout sessions:

○ General Council business: Review and adoption of agenda, election of officers, review and approval of previous meeting minutes, Council Chair and members reports, public and Tribal comments on non-agenda items.

○ Develop proposals and accept public comments on potential changes to regulations for subsistence take of fish and shellfish.

○ Review and approve annual report.

○ Agency, Tribal governments, Native organizations, State of Alaska, and nongovernmental organizations reports.

○ Future meeting dates.

Fall Meetings

• General Council business: Review and adoption of agenda, review and approval of previous meeting minutes, Council Chair and members reports, public and Tribal comments on non-agenda items.

• Prepare recommendations and accept public comments on proposals to change subsistence take of fish and shellfish regulations and review and prepare recommendations on fisheries closures.

• Define issues for upcoming annual report.

• Develop priority information needs for the Fisheries Resource Monitoring Program.

• Agency, Tribal governments, Native organizations, State of Alaska, and nongovernmental organizations reports. Future meeting dates.

A notice will be published with specific dates, times, and meeting locations in local and statewide newspapers prior to both series of meetings; in addition, announcements will be made on local radio stations and posted on social media and the Federal Subsistence Management Program website (https://www.doi.gov/subsistence/regions). Locations and dates may change based on weather or local circumstances. A teleconference will substitute for an in-person meeting if public health or safety restrictions are in effect. The final draft agendas, call-in numbers, instructions on how to participate and provide public comments, and other related meeting information will be posted on the Federal Subsistence Management Program website and at https://www.facebook.com/subsistencealaska/. Transcripts of the meetings are maintained by the program and will be available for public inspection within 14 days after each meeting at https://www.doi.gov/subsistence/regions.

Public Submission of Comments

Time will be allowed for any individual or organization wishing to present oral or written comments. If you are not available to submit your comments, you may have another party present your comments on your behalf. Any written comments received will be presented to the Council members by staff.

Public Availability of Comments

Before including your address, phone number, email address, or other personally identifiable information in your comment, you should be aware that your entire comment—including your personal identifiable information—may be made publicly available at any time. While you can ask us in your comment to withhold your personal identifiable information from public review, we cannot guarantee that we will be able to do so.

Authority

5 U.S.C. ch. 10.

Amee Howard,
Acting Assistant Regional Director, U.S. Fish and Wildlife Service.
Gregory Risdahl,
Subsistence Program Leader, USDA—Forest Service.

[FR Doc. 2024-02905 Filed 2-12-24; 8:45 am]

BILLING CODE 4333-15-P; 3411-15-P